DEPARTMENT OF HEALTH AND HUMAN SERVICES

Centers for Medicare & Medicaid Services

[Document Identifier: CMS-10217, CMS-R-297 and CMS-10223]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: New collection; Title of Information Collection: Physician Survey for the 2006 Medicare Oncology Demonstration Program; Form Numbers: CMS-10217 (OMB#: 0938-New); Use: The 2006 Oncology Demonstration Program aimed to: (1) Have oncology payments increasingly focused on patient-centered care, rather than chemotherapy administration; (2) learn to what extent Medicare beneficiaries are being treated in a manner that yields the best outcomes; (3) understand clinical cancer scenarios where there is not clinical consensus among physicians on the relevance of specific evidence-based practice guidelines; and, (4) ensure that due emphasis is placed on multi-disciplinary, comprehensive approach to palliation and end of life care. In addition, CMS hoped to reduce the potential that unnecessary services and tests are being performed, thereby lowering program costs while yielding better quality of life for Medicare beneficiaries with cancer. This survey will provide information on how physicians, particularly oncologists and hematologists, adapted their practice in response to the CMS payment incentive, to guide future CMS demonstration projects involving oncologists and all specialists. Frequency: Reporting—Once; Affected Public: Individuals or households; Number of Respondents: 600; Total Annual Responses: 600; Total Annual Hours: 100.

2. Type of Information Collection Request: Extension without change of a currently approved collection; Title of Information Collection: Request for Employment Information; Form Numbers: CMS-R-297 (OMB#: 0938-0787); Use: Section 1837(i) of the Social Security Act provides for a special enrollment period for individuals who delay enrolling in Medicare Part B because they are covered by a group health plan based on their own or a spouse's current employment status. When these individuals apply for Medicare Part B, they must provide proof that the group health plan coverage is (or was) based on current employment status. This form is used by the Social Security Administration to obtain information from employers regarding whether a Medicare beneficiary's coverage under a group health plan is based on current employment status. Frequency: Reporting—Once; Affected Public: Business or Other for profit and Not-for-profit institutions; Number of Respondents: 5000; Total Annual Responses: 5000; Total Annual Hours: 1250.

3. Type of Information Collection Request: New collection; Title of Information Collection: Medicare Competitive Acquisition Program (CAP) for Part B Drugs Evaluation: CAP Physician Survey; Form Numbers: CMS-10223 (OMB#: 0938-New); Use: This physician survey is part of an overall evaluation of the Centers for Medicare and Medicaid Services congressionally mandated Competitive Acquisition for Part B Drugs and Biologicals Program (CAP). Medicare Prescription Drug Improvement and Modernization Act (MMA) section 303(d) requires the implementation of the CAP for those drugs and biologicals covered by Medicare part B that are not paid on a cost or prospective payment system. Since July 1, 2006, physicians have been given a choice between (1) Buying and billing for these covered drugs under the average sales price (ASP) system mandated in section 303(c) of the MMA; or (2) obtaining these drugs from vendors selected for the CAP in a competitive bidding process. If the physician elects to obtain drugs from a CAP vendor, the vendor, rather than the physician, will bill Medicare for the drug. The CAP is therefore a major change in the way Part B-covered drugs and biologicals are acquired and reimbursed for, requiring CMS to consider many design options. The CAP mandate includes a Report to Congress due July, 1 2008, which will include results from this physician survey; Frequency: Reporting—Once; Affected Public: Business or Other for-profits; Number of Respondents: 1560; Total Annual Responses: 1560; Total Annual Hours: 297.50.

To obtain copies of the supporting statement and any related forms for the proposed paperwork collections referenced above, access CMS' Web Site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received at the address below, no later than 5 p.m. on June 19, 2007.

CMS, Office of Strategic Operations and Regulatory Affairs, Division of Regulations Development—C, Attention: Bonnie L Harkless, Room C4-26-05, 7500 Security Boulevard, Baltimore, Maryland 21244-1850.

Dated: April 13, 2007.
Michelle Shortt,
Director, Regulations Development Group, Office of Strategic Operations and Regulatory Affairs.

[FR Doc. E7-7423 Filed 4-19-07; 8:45 am]

BILLING CODE 4120-01-P